DEPARTMENT OF THE INTERIOR

Bureau of Land Management

[ID-070-1020-PG]

Upper Snake River District Resource Advisory Council Meeting; Correction, Location and Times

AGENCY: Bureau of Land Management, Interior.

ACTION: Upper Snake River District Resource Advisory Council Meeting: Correction, Location and Times.

SUMMARY: On May 20, 2002, we published the date of the next Upper Snake River District Resource Advisory Council (RAC) Meeting as May 29, 2002 (67 FR 35572). The notice would not have allowed enough time for public participation. The meeting has been re-scheduled for July 24, 2002, beginning at 1 p.m.; and July 25, 2002, beginning at 8 a.m. The meeting will be held at the Sun Valley Elkhorn Lodge, 1 Elkhorn Road, in Sun Valley, Idaho.

SUPPLEMENTARY INFORMATION: The RAC meets in accordance with the Federal Land Policy and Management Act and the Federal Advisory Committee Act of 1972 (FACA), 5 U.S.C. All meetings are open to the public. Each formal council meeting has time allocated for hearing public comments, and the public may present written or oral comments. Individuals who plan to attend and need further information about the meetings, or need special assistance such as sign language interpretation or other reasonable accommodations, should contact the address below.

FOR FURTHER INFORMATION: David Howell at the Upper Snake River District Office, 1405 Hollipark Dr., Idaho Falls, ID 83401, or telephone (208) 524-7559.

Dated: June 5, 2002.
Russ McFarling,
Acting District Manager.

[FR Doc. 02-17133 Filed 7-3-02; 2:00 pm]

BILLING CODE 4310-GG-P